ENVIRONMENTAL PROTECTION AGENCY

[FRL-9227-2]

Proposed Agreement Pursuant to Section 122(h)(1) of the Comprehensive Environmental Response, Compensation, and Liability Act for the 76th & Albany Site, Chicago, IL

AGENCY: Environmental Protection Agency (EPA).

ACTION: Notice; Request for public comment on proposed CERCLA 122(h)(1) agreement with the City of Chicago (Settling Party) for the 76th & Albany Site.

SUMMARY: In accordance with section 122(i)(1) of the Comprehensive Environmental Response, Compensation, and Liability Act of 1984, as amended (CERCLA), notification is hereby given of a proposed administrative agreement concerning the 76th & Albany hazardous waste site in Chicago, Illinois (the Site). EPA proposes to enter into this agreement under the authority of section 122(h) and 107 of CERCLA. The proposed agreement has been executed by the Settling Party.

Under the proposed agreement, the Settling Party will pay $220,380 to EPA to resolve EPA's claims against it for response costs incurred by EPA at the Site. EPA has incurred response costs investigating and performing response actions at the Site to mitigate potential imminent and substantial endangerments to human health or the environment presented or threatened by hazardous substances present at the Site.

For thirty days following the date of publication of this notice, the EPA will receive written comments relating to this proposed agreement. EPA will consider all comments received and may decide not to enter this proposed agreement if comments disclose facts or considerations which indicate that the proposed agreement is inappropriate, improper or inadequate.

DATES: Comments on the proposed agreement must be received by EPA on or before December 16, 2010.

ADDRESSES: Comments should be addressed to Andre Daugavietis, U.S. Environmental Protection Agency, Region 5, Office of Regional Counsel, 77 West Jackson Boulevard, Chicago, Illinois, 60604-3590, and should refer to: In the Matter of Agreement for Recovery of Past Response Costs, 76th & Albany, Chicago, Cook County, Illinois.

FOR FURTHER INFORMATION CONTACT: Andre Daugavietis, U.S. Environmental Protection Agency, Office of Regional Counsel, C-14J, 77 West Jackson Boulevard, Chicago, Illinois, 60604-3590, (312) 886-6663.

A copy of the proposed administrative settlement agreement may be obtained in person or by mail from the EPA's Region 5 Office of Regional Counsel, at the above address. Additional background information relating to the settlement is available for review at the EPA's Region 5 Office of Regional Counsel.

Authority: 42 U.S.C. 9601-9675.

Dated: October 7, 2010.
Douglas E. Ballotti,
Acting Director, Superfund Division, Region 5.

[FR Doc. 2010-28819 Filed 11-15-10; 8:45 am]

BILLING CODE 6560-50-P